ENVIRONMENTAL PROTECTION AGENCY

[FRL-8298-4]

Proposed Peripheral Party Settlement Agreement Pursuant to Section 122(h)(1) of the Comprehensive Environmental Response, Compensation, and Liability Act for the Continental Steel Corporation Site

AGENCY: Environmental Protection Agency (“EPA”).

ACTION: Notice; request for public comment on proposed CERCLA 122(h)(1) agreement with Steve Hart, for the Continental Steel Corporation Superfund Site.

SUMMARY: In accordance with section 122(i)(1) of the Comprehensive Environmental Response, Compensation and Liability Act of 1984, as amended (“CERCLA”), notification is hereby given of a proposed administrative agreement concerning the Continental Steel Corporation hazardous waste site in Kokomo, Indiana (the “Site”). EPA proposes to enter into this agreement under the authority of section 122(h) and 107 of CERCLA, and with the approval of the United States Department of Justice, pursuant to the authority of the Attorney General of the United States to compromise and settle claims of the United States. The proposed agreement has been executed by Steve Hart, the owner of a portion of the Site that does not require remediation (the “Settling Party”).

Under the proposed agreement, the Settling Party will provide an irrevocable right of access to his property for staging of trailers and equipment needed during the course of Site cleanup and will make certain clean fill available to be used at the Site, if necessary, to resolve EPA's claims against it for response costs incurred and to be incurred by EPA at the Site. EPA has incurred and will continue to incur response costs performing response actions to investigate and mitigate potential imminent and substantial endangerments to human health or the environment presented or threatened by hazardous substances present at the Site.

For thirty days following the date of publication of this notice, the Environmental Protection Agency will receive written comments relating to this proposed agreement. EPA will consider all comments received and may decide not to enter this proposed agreement if comments disclose facts or considerations which indicate that the proposed agreement is inappropriate, improper or inadequate.

DATES: Comments on the proposed agreement must be received by EPA on or before May 14, 2007.

ADDRESSES: Comments should be addressed to the Docket Clerk, U.S. Environmental Protection Agency, Region 5, 77 West Jackson Boulevard, Chicago, Illinois 60604-3590, and should refer to: In the Matter of Continental Steel Corporation Site, U.S. EPA Docket No. V-W-07C-867.

FOR FURTHER INFORMATION CONTACT: Thomas J. Krueger, U.S. Environmental Protection Agency, Office of Regional Counsel, C-14J, 77 West Jackson Boulevard, Chicago, Illinois 60604-3590, (312) 886-0562.

A copy of the proposed administrative settlement agreement may be obtained in person or by mail from the EPA's Region 5 Office of Regional Counsel, 77 West Jackson Boulevard, Chicago, Illinois 60604-3590. Additional background information relating to the settlement is available for review at the EPA's Region 5 Office of Regional Counsel.

Authority: The Comprehensive Environmental Response, Compensation, and Liability Act, as amended, 42 U.S.C. 9601-9675.

Douglas Ballotti,
Acting Director, Superfund Division, Region 5.

[FR Doc. E7-7016 Filed 4-12-07; 8:45 am]

BILLING CODE 6560-50-P